DEPARTMENT OF COMMERCE

National Oceanic and Atmospheric Administration

15 CFR Part 923

Proposed Amendment to the Puerto Rico Coastal Zone Management Program

AGENCY: National Oceanic and Atmospheric Administration (NOAA), Office for Coastal Management, National Ocean Service, Department of Commerce.

ACTION: Request for Comments on preliminary findings and draft EA.

SUMMARY: The National Oceanic and Atmospheric Administration's (NOAA) Office for Coastal Management is requesting comments on the preliminary findings and draft environmental assessment for a request from the Commonwealth of Puerto Rico for approval of amendments to the Puerto Rico Coastal Zone Management Program (PRCZMP). NOAA has determined that the amendments to the PRCZMP do not meet the requirements for approval. This determination is subject to change depending on public comments and further information that may be submitted by the Commonwealth. As part of its review of the amendments, NOAA developed a draft environmental assessment pursuant to the requirements of the National Environmental Policy Act for which comments are also requested.

DATES: Comments on the preliminary findings and draft environmental assessment must be received by February 13, 2017.

ADDRESSES: You may submit comments on the preliminary findings and/or draft environmental assessment by either of the following methods:

• Electronic Submission: Submit all electronic public comments via the Federal e-Rulemaking Portal www.regulations.gov. To submit a comment, go to the docket for this review by typing “NOAA-NOS-2016-0148” into the search function on the Regulations.Gov Home Page.

• Mail: Submit written comments to Mr. Kerry Kehoe, Federal Consistency Specialist, Office for Coastal Management, NOAA, 1305 East-West Highway, 10th Floor, N/OCM6, Silver Spring, MD 20910. Attention: PRCZMP Amendment.

Instructions: Comments must be submitted by one of the above methods to ensure that the comments are received, documented and considered. Comments sent by any other method, to any other address or individual, or received after the end of the commend period may not be considered. All comments received are part of the public record and will generally be posted for public viewing on www.regulations.gov without change. All personal identifying information (e.g., name, address, etc.) submitted voluntarily by the sender will be publicly accessible. Do not submit confidential business information, or otherwise sensitive or protected information. NOS will accept anonymous comments Enter “N/A” in the required fields if you wish to remain anonymous. Attachments to electronic comments will be accepted in Microsoft Word or Excel, WordPerfect, or Adobe PDF file formats only.

FOR FURTHER INFORMATION CONTACT: Mr. Kerry Kehoe, Federal Consistency Specialist, Office for Coastal Management, NOAA, at 240-533-0782 or kerry.kehoe@noaa.gov.

SUPPLEMENTARY INFORMATION:

Background: The federal Coastal Zone Management Act provides incentives to states and U.S. territories to develop programs to manage coastal resources and uses. The PRCZMP was approved NOAA in 1978. Since that time, statutory and regulatory changes have been made to the organizational structure of the land use agencies which comprise the PRCZMP; the land use authority of local governments; and the permit decision-making process. These changes are in force and being implemented as laws of the Commonwealth pursuant to the Puerto Rico Permit Process Reform Act of 2009 (Law 161), as amended by Law 151 of 2013, and pursuant to the Autonomous Municipalities Act of 1991 (Law 81). In order to demonstrate that the program continues to meet the requirements for program approval established under the Coastal Zone Management Act and its implementing regulations, the Department of Natural and Environmental Resources has submitted these changes to NOAA for approval. Copies of the Commonwealth's submission are available on the Regulations.Gov Web site under the Docket No. “NOAA-NOS-2016-0148.”

NOAA's Office for Coastal Management has determined that these changes are substantial and should be reviewed as a program amendment in accordance with 15 CFR part 923, subpart H. NOAA held a public hearing on the amendment in San Juan, Puerto Rico on September 2, 2015. The focus of the hearing was on whether the PRCZMP continues to meet the requirements for program approval as specified in the Coastal Zone Management Program regulations at 15 CFR part 923. In addition to the hearing, NOAA solicited written comments from the public on the amendment.

NOAA is issuing preliminary findings on the request for approval of the amendments to the PRCZMP. Although most of the changes to the PRCZMP have been found to be approvable, NOAA has found that the fast-tracking of the permitting process does not provide a meaningful opportunity for public participation in the process. NOAA has also identified concerns with the placement of permitting authority in authorized professionals.

These preliminary findings are subject to change pending a response from the Commonwealth, and comments from the public.

NOAA has also completed a draft environmental assessment pursuant to the requirements of the National Environmental Policy Act for this review. Comments on the draft environmental assessment are also being solicited.

The preliminary findings and draft environmental assessment are available for review on the Regulations.Gov Web site under Docket No. “NOAA-NOS-2016-0148.”

Federal Domestic Assistance Catalog 11.419.

Dated: December 2, 2016.
Christopher Cartwright,
Acting, Deputy Assistant Administrator for Ocean Services and Coastal Management, Coastal Zone Management Program Administration.

[FR Doc. 2016-29842 Filed 12-12-16; 8:45 am]

BILLING CODE 3510-08-P